NATIONAL SCIENCE FOUNDATION

Request for Information (RFI) on Science Research Goals/Objectives Affecting Proposed U.S. Antarctic Science Monitoring and Reliable Telecommunications (SMART) Cable and Route Design

AGENCY: National Science Foundation.

ACTION: Request for information.

SUMMARY: The National Science Foundation (NSF) requests input from the full range of institutions and organizations across all relevant sectors—industry, academia, non-profits, government, venture capital, and others—to inform the development of a proposed subsea telecommunications cable capable of being equipped with sensors to support science research that would connect the largest U.S. research facility in Antarctica, McMurdo Station, with either the South Island of New Zealand or Southeast Australia. The proposed cable is expected to host the point science sensor concept promoted by the UN IOC/UNESCO Joint Task Force on Science Monitoring And Reliable Telecommunications (https://www.smartcables.org/) (“SMART”) Cables. NSF requests information regarding the proposed McMurdo SMART Cable project including the cable route that maximizes science output and science sensor and technologies to be considered in designing the project. NSF will provide project information and updates at https://www.nsf.gov/geo/opp/ail/subsea_cable.

DATES: Interested persons or organizations are invited to submit responses to this notice on or before 11:59 p.m. (EDT) on November 5, 2024.

ADDRESSES: Options for Responses to this notice are as follows:

• Electronic On-line Submission: https://www.surveymonkey.com/r/subseacable.

• Email: AntarcticSubseaCable-RFI@nsf.gov. Email submissions should be machine-readable and not be copy-protected. Submissions should include “RFI Response: Antarctic SMART Cable” in the subject line of the message.

• Letter Mail: U.S. National Science Foundation, Geosciences Directorate, Office of Polar Programs, 2415 Eisenhower Ave., Suite W7251, Alexandria, VA 22314.

Attn: Patrick D. Smith, Antarctic SMART Cable RFI Response.

• Telephone: Antarctic Infrastructure and Logistics Section, (703) 292-8032.

The preferred method of response is the Electronic On-line Submission.

FOR FURTHER INFORMATION CONTACT: Patrick D. Smith, Technology Development Manager for Polar Research Support, National Science Foundation, Geosciences Directorate, Office of Polar Programs, 2415 Eisenhower Ave., Suite W7251, Alexandria, VA 22314; telephone (703) 292-7455.

SUPPLEMENTARY INFORMATION:

Introduction

Over 500 subsea fiber optic telecommunications cables, including both installed and planned cables, cover nearly all ocean regions including multiple high Arctic cables. NSF is investigating the implementation of a modern subsea fiber optic telecommunications cable connecting the largest U.S. Antarctic Program (https://www.usap.gov/) research facility, McMurdo Station (77°50′47″ S, 166°40′06″ E) (https://www.usap.gov/videoclipsandmaps/mcmwebcam.cfm?t=1), with either New Zealand or Australia. Although the main scope of the installation is to provide advanced high-speed, low delay telecommunications, this cable will contain additional point sensors (e.g., SMART—Science Monitoring And Reliable Telecommunications) and/or distributed sensing infrastructure, enabling for the first time myriad investigations across a broad range of scientific disciplines.

The NSF Directorates for Geosciences (GEO), Computer and Information Science and Engineering (CISE), and Technology, Innovation, and Partnerships (TIP) have identified the potential subsea cable as an opportunity for transformational changes in the conduct of science, vast improvements in telecommunications capability supporting Antarctica, and innovative public-private partnerships linking science and technology.

Additionally, the cable would have the ability to accommodate additional, multiple forms of distributed fiber optic sensing that are advancing rapidly in technology maturity (e.g., Distributed Acoustic Sensing, Distributed Temperature Sensing, State of Polarization, etc.). Preliminary cable routes have been established using standard subsea cable industry best practices that avoid areas posing high geophysical risk, as well as initial feedback from the scientific community via a virtual workshop in 2021, producing a broad corridor where opportunities exist to adjust the final route to best align with Earth science areas of high science research interest.

Further, science research supported by the cable sensors is of societal relevance on a global scale for a number of reasons, such as (1) filling significant knowledge gaps of key global ocean processes and trends for improved understanding and monitoring climate change, including ocean heat transport, CO2 sequestration, and sea level rise; (2) regional seismic monitoring and early warning of potential tsunami seismic events; (3) global measurements of geophysical Earth structure; and (4) developing the technological capabilities to enhance other global telecommunications infrastructure for scientific research and human benefit.

Science Workshop

In late June 2021, the NSF Directorate for Geosciences, Office of Polar Programs (GEO/OPP) (https://www.nsf.gov/div/index.jsp?div=OPP) and Directorate for Computer Information Science and Engineering, Office of Advanced Cyberinfrastructure (CISE/OAC) (https://new.nsf.gov/cise/oac), jointly funded a research community-led science workshop (https://www.pgc.umn.edu/workshops/antarctic-cable/) to review the scientific benefits of a sensor-enabled subsea fiber cable. The Workshop endorsed the cable concept and noted that existing technology and cable systems make it feasible. The Workshop concluded that the proposed activity would benefit Antarctic science research by both increasing telecommunications capacity and including new science sensors in the cable design.

The Workshop's Executive Summary captured four primary findings:

Finding 1: Existing and future Antarctic research would be significantly enhanced if bandwidth limitations were eliminated through the availability of a modern submarine cable system.

Finding 2: A new submarine cable could be constructed with embedded instrumentation (a Scientific Monitoring And Reliable Telecommunications, or SMART, cable) that would itself enable meaningful new research and understanding of the region.

Finding 3: Robust bandwidth for interpersonal connectivity for scientists and staff, if thoughtfully approached, could be transformative for research and work functions, participation in Antarctic science, education, engagement, and community wellbeing.

Finding 4: Construction of a new SMART cable that provides essentially unlimited bandwidth to McMurdo is feasible and could also serve as the platform to extend connectivity to deep-field research sites as well as critical research programs at Amundsen-Scott South Pole Station. This level of connectivity can transform the science and research platforms for future generations.

Feasibility Study

In response to the 2021 Science Workshop, NSF contracted a comprehensive preliminary concept/feasibility study (known as a Desktop Study, or DTS https://gbs1.com/desktop-studies/), incorporating the unique attributes of implementing a sensor-enabled cable to Antarctica. The public version of the McMurdo Cable DTS (https://www.nsf.gov/geo/opp/documents/NSF_PublicReleaseDTS_Final.pdf) was released in October 2023. NSF also provided a summary and news release (https://www.nsf.gov/news/news_summ.jsp?cntn_id=308774&org=OPP).

The DTS addresses two proposed routes for comparison: (1) McMurdo Station to Sydney, Australia and (2) McMurdo Station to Invercargill, New Zealand. It includes brief assessments of optional extensions from the main cable routes to Macquarie Island for potential interconnection to the Australian research station located there and to nearby international research stations located in the Western Ross Sea/Terra Nova Bay area. More details on the proposed routes including landing sites and relevant diagrams can be found in section 2 of the DTS.

The study Executive Summary summarizes the key study results in a comparison of the two routes considered.

Both routes were considered technically feasible with the following observations:

(1) The NZ route is 1,500 km shorter and thus considerably more economical.

(2) The Australian route has additional geophysical risk to the cable arising from a crossing of the seismically active Macquarie Ridge Complex to the north of Macquarie Island.

(3) The New Zealand route covers more regions of science interest as indicated by science researcher input to the study. Seismologist interests obtained during the study proposed cable branching units located at 60° S and 50° S for future sea bottom seismometer instruments tapping the cable's power and communications.

(4) The risk from ice scour appears reasonable based upon detailed near-shore bathymetry—the Antarctic SMART Cable landing risk mitigation uses standard subsea cable landing techniques called Horizontal Directional Drilling (HDD). Bathymetry and iceberg keel depth studies pertaining to the cable route transit across the Ross Sea continental shelf yield a similar low risk assessment.

(5) Environmental assessments and permitting will be a significant component of future work, as is the case with all subsea cable projects, and will include the Antarctic Treaty Committee on Environmental Protection protocols. Coordination with the Committee for the Conservation of Antarctic Marine Living Resources (CCAMLR) will be needed as the proposed cable route transits the CCAMLR governed Marine Protected Areas in the Ross Sea region.

Subsea Cable Industry Considerations

A subsea cable installation represents a substantial economic investment. As such, modern subsea telecommunications cables are designed with a 25-year or greater lifetime and thus are designed for high reliability and low maintenance. The introduction of SMART sensors into commercial subsea telecommunications cables is a new phenomenon, with the Government of Portugal-sponsored Atlantic CAM cable (https://www.infraestruturasdeportugal.pt/pt-pt/ip-e-asn-assinam-contrato-para-construcao-de-novo-anel-cam) and the TAMTAM cable connecting New Caledonia and Vanuatu (https://www.soest.hawaii.edu/soestwp/announce/news/contract-signed-vanuatu-new-caledonia/) being the first examples. The introduction of sensors into a standard telecommunications cable meeting scientific requirements and inherent cable design life/reliability requirements represents both a new market opportunity and a new technical frontier for industry that will influence the design and adoption of SMART sensors. Point sensors also complement and enhance commercially available cable sensing technologies such as distributed fiber sensing.

Resources

NSF, United States Antarctic Program Portal; https://www.usap.gov/

NSF, Office of Polar Programs; https://www.nsf.gov/div/index.jsp?div=OPP

NSF, Office of Advanced Cyberinfrastructure; https://new.nsf.gov/cise/oac

NSF, McMurdo Station Webcams; https://www.usap.gov/videoclipsandmaps/mcmwebcam.cfm

Joint Task Force on Science Monitoring And Reliable Telecommunications, SMART Cables; https://www.smartcables.org/

Neff, P.D., Andreasen, J.R., Roop, H.A., Pundsack, J., Howe, B., Jacobs, G., Lassner, D., Yoshimi, G., and Timm, K. (2021). 2021 Antarctic Subsea Cable Workshop Report: High-Speed Connectivity Needs to Advance US Antarctic Science. October 1, 2021. University of Minnesota, Saint Paul, MN, USA; https://www.pgc.umn.edu/workshops/antarctic-cable/

ICPC, Minimum Technical Requirements for a Desktop Study (6 March 2012), Recommendation No. 9, at pp. 4-8; www.iscpc.org/publications/recommendations

NSF, Connecting the Last Continent: New desktop study on Antarctica's potential subsea telecommunications cable, with link to study, 27 December 2023; https://www.nsf.gov/news/news_summ.jsp?cntn_id=308774&org=OPP

Infraestruturas de Portugal, IP and ASN sign contract for the construction of a New CAM Ring, 13 March 2024; https://www.infraestruturasdeportugal.pt/pt-pt/ip-e-asn-assinam-contrato-para-construcao-de-novo-anel-cam

University of Hawai'i, Contract signed for world's first SMART subsea cable, connecting Vanuatu, New Caledonia, School of Ocean and Earth Science and Technology, 29 February 2024; https://www.soest.hawaii.edu/soestwp/announce/news/contract-signed-vanuatu-new-caledonia/

Definition of Terms/References

2021 Antarctic Subsea Cable Workshop: https://www.pgc.umn.edu/workshops/antarctic-cable/

Branching Unit (BU): https://en.wikipedia.org/wiki/Submarine_branching_unit

Ocean Bottom Pressure A-0-A Technology: https://oceanobservatories.org/pi-instrument/a-0-a-calibrated-pressure-instrument/#:~:text=TheAD0DAmethod,pressureinsidetheinstrumenthousing.

Repeater: S. Lentz and B. Howe, “Scientific Monitoring And Reliable Telecommunications (SMART) Cable Systems: Integration of Sensors into Telecommunications Repeaters,” 2018 OCEANS—MTS/IEEE Kobe Techno-Oceans (OTO), Kobe, Japan, 2018, pp. 1-7, doi: 10.1109/OCEANSKOBE.2018.8558862. (pg. 2) https://www.researchgate.net/publication/329618575_Scientific_Monitoring_And_Reliable_Telecommunications_SMART_Cable_Systems_Integration_of_Sensors_into_Telecommunications_Repeaters

SMART Cables: https://www.smartcables.org/smart

Technology Readiness Level (TRL): https://en.wikipedia.org/wiki/Technology_readiness_level

Information Requested

Through this notice, NSF seeks information from the public to evolve the development of the Antarctic SMART Cable. NSF requests information regarding the subsea cable route that both minimizes the risk to the cable and maximizes science research potential, the range of potential science sensors to include, as well as their geographic distribution, the locations of powered cable branching units for future sensor cable build-out or undersea observatory-style point sensor arrays, concepts for the incorporation of existing or promising distributed fiber sensing techniques, and suggested paths to catalyze the necessary technology to develop such a cable system. Additionally, NSF seeks information relevant to partnership opportunities with the public (U.S., international) and private (academia, for-profit and non-profit) sectors that will facilitate the conceptualization, development, deployment and sustainment of the cable system and related scientific infrastructure.

The information requested here will be used to inform the proposed Antarctic SMART Cable project via the NSF Major Research Equipment Facilities and Construction (MREFC) program that funds the development of facility infrastructure. MREFC projects are funded via a separate appropriation intended for large capital-intensive investments, distinct from the NSF appropriations funding research and related activities.

Responses submitted via Email and Letter Mail are requested to follow the Electronic On-line Submission data capture questions and format for ease in analyzing responses. These responses may address one or as many topics as desired from the enumerated list provided in this RFI, noting the corresponding number of the topic(s) to which the response pertains. Written submissions must be type-written and not exceed 3 pages (exclusive of cover page and accompanying graphics) in 11-point or larger font, single spacing and with a page number provided on each page.

Comments containing references, studies, research, and other empirical data that are not widely published or widely available should include copies or electronic links of the referenced materials; these materials, as well as a list of references, do not count toward the 3-page limit. No business proprietary information, copyrighted information, or personally identifiable information (aside from optional information requested below) should be submitted in response to this RFI. Comments submitted in response to this RFI will be used internally at NSF and may be shared with other Federal agencies and NSF contractors assigned to process the responses.

Responders are asked to answer one or more of the following questions in responses to the RFI. There are no known risks to participating, and participation is voluntary. Unless provided by you, no identifying information will be collected; therefore, all responses will remain confidential, anonymous, and reported in the aggregate. While there is no sensitive content, you may skip a question at any time.

Demographic Questions

1. In which sector do you currently work?

(a) Academia

(b) Private or publicly traded company

(c) Government agency/public sector

(d) Non-governmental organization/non-profit

(e) Venture capital/private equity

(f) Other (Please specify)

2. Please select up to three (3) areas of expertise/interest:

(a) Physical Oceanography

(b) Cryosphere

(c) Biochemistry

(d) Science Education

(e) Geodesy

(f) Hydrology

(g) Climate Change Research

(h) Marine Geology/Geophysics

(i) Natural Hazards

(j) Solid Earth Geophysics

(k) Subsea Fiber Optic Cable Systems

(l) Sensor/Instrumentation Development

(m) Data Management

(n) Distributed Fiber Sensing

(o) Other (Please specify)

3. For how long have you been working in your current field(s)?

(a) Less than five years

(b) Five to less than ten years

(c) Ten to less than twenty years

(d) Twenty years or more

(e) Prefer not to answer

SMART Cables and Antarctic SMART Cable Science Objectives

4. How familiar are you with the overall SMART Cable concept?

Very familiar

Familiar

Somewhat familiar

Not very familiar

Not at all familiar

5. Prior to the NSF Federal Register Notice and this Electronic On-Line Submission, how familiar were you with the nascent Antarctic SMART Cable project?

Very familiar

Familiar

Somewhat familiar

Not very familiar

Not at all familiar

6. Which of the following major research areas do you see the observational capability of the cable supporting? Select all that apply.

Climate Change Research

Acoustic Monitoring

Long-Term Global Ocean Observations (general)

Seismology Research

Earthquake/Tsunami Monitoring

Sea Level Research

Deep Ocean Circulation Research

Southern Ocean Research

Other (Please specify)

None of the above

7. If you selected “NONE OF THE ABOVE” in the previous question, please elaborate here:

Current and Future Sensors

The initial SMART Cable sensor concept incorporates three basic measurements: Ocean Bottom Pressure, Ocean Bottom Temperature, and Seismic Ground Motion (seismic acceleration and/or velocity). At the time of the release of this survey, the supplier for the two commercial SMART Cable systems under development is finalizing their sensor and vendor selection process, but future systems—like the Antarctic SMART Cable—may have some limited flexibility in the types of sensors which can be incorporated. The following questions explore the range of potential sensor capabilities under consideration for inclusion in the Antarctic SMART Cable.

8. How important is it for the sensor to measure each of the following?

BILLING CODE 7555-01-P

9. If you'd like, please use this space to elaborate on your answers to Question 8.

10. How important is it for the sensor to measure each of the following?

11. If you'd like, please use this space to elaborate on your answers to Question 10.

12. How important is it for the sensor to measure each of the following?

13. If you'd like, please use this space to elaborate on your answers to Question 12.

14. How important is it to include the following additional sensors in the cable?

BILLING CODE 7555-01-C

15. In the previous question, for any selections you indicated were “important” or “very important,” please explain why you feel these sensor types should be included on the cable:

16. In question #14, for any selections you indicated were “not very important” or “not important at all,” please explain why you feel these sensor types are not needed:

17. In your view, how do SMART and distributed fiber sensing (i.e., DAS and DTS) complement one another?

18. What new scientific discoveries or breakthroughs do you anticipate as a direct result of having access to the long-term measurement data collected by the cable's sensors?

New Sensor Technologies

To catalyze rapid sensor development and increase their Technology Readiness Levels (TRLs) for inclusion in the Antarctic SMART Cable, a range of organizational approaches may be necessary.

19. Should NSF facilitate further development for SMART Cable sensors? If so, how (i.e., research labs/institutions/industry/partnerships, etc.)?

Yes

No

Don't know

20. If you'd like, please use this space to elaborate on your answer to question 19.

Location of the SMART Cable, Sensors, and Future Cable Expansion

For some segments of the cable, it may be possible to shift the cable's path slightly in some locations to accommodate additional science or enable long-term monitoring of specific scientific targets. Further, depending upon the final technological solution(s) for how sensor units will be incorporated into the cable, there may be opportunities to select the locations of some of the sensor modules. Finally, the cable may be able to include one or more Branching Units (BUs). A BU can be used for multiple purposes, such as adding another cable branch, attaching a localized device, or providing an entry point for including a localized network of sensors focused on a specific area or areas.

BILLING CODE 7555-01-P

BILLING CODE 7555-01-C

Figure Caption: Potential routes for the Antarctica SMART Cable system based on the 2023 Desktop Study (https://www.nsf.gov/geo/opp/documents/NSF_Public%20Release%20DTS_Final.pdf). Thick white dashed lines represent primary McMurdo Trunk and three proposed cable segments with optional landings at (a) Macquarie Island, (b) Invercargill, New Zealand, and (c) Sydney, Australia. Proposed Cable Landing Stations are marked by white circles. Vulnerable Marine Ecosystem (VME) areas near McMurdo Station are shaded dark gray. The dark gray zone around trunk and cable options shows buffer zones where Branching Unit (BU) stubs could extend. Tectonic plate boundaries (AU: Indo-Australian Plate; AN: Antarctic Plate; PA: Pacific Plate) are denoted by thin black lines.

21. Referring to the above Figure and noting the region of potential cable locations, would you shift the position of the proposed cable route within the buffer zone (dark gray area in the figure)? If so, where? Note that cable path shifts will be minimal without additional engineering evaluations for deployment feasibility and cable safety.

Yes

No

Don't know

22. If you'd like, please use this space to elaborate on your answer to question 21.

23. How valuable would it be to your research to be able to select the specific locations of the SMART sensor modules along the cable?

Very valuable

Valuable

Somewhat valuable

Not very valuable

Not valuable at all

24. How important is it to include one or more Branching Units?

Very important

Important

Somewhat important

Not very important

Not important at all

25. In terms of current and future research, in your view what are potential uses for Branching Units?

26. Referring again to the above Figure and noting the corridor available around the trunk lines to deploy stubs from Branching Units (dark gray shaded areas surrounding the white dotted lines), would you place additional BUs?

Yes

No

Don't Know

27. If you'd like, please use this space to elaborate on your answers to question 26. If you answered yes, please indicate where and why.

28. What potential do you see for the cable to enable the vision of the networked ocean as a relay platform for an “internet of Underwater Things”, such as subsea gliders, submersible float sensors, ROVs and similar submersible autonomous instrumentation systems?

Partnerships and the Project

The Whitepaper (https://goosocean.org/news/un-ocean-decade-challenge-7-white-paper-a-roadmap-for-the-observing-system-we-need/) addressing Challenge 7 (“Expand the Global Ocean Observing System”) from the UN IOC/UNESCO Decade of Ocean Science for Sustainable Development (2021-2030) (“Ocean Decade 2030”) program indicates that significant investments will be needed to meet the challenges for global ocean observation goals while current investments and mechanisms are inadequate. There is a clear call for multi-sector engagements such as public-private partnerships and international collaborations for a “new economic thinking” to provide the resources needed.

29. What private and/or public sector groups (e.g., academic, non-profit, industry, etc.) do you think may have an active interest in partnership activities with NSF for aspects of the cable system development?

Contribution of the Antarctic SMART Cable To Resolve Global Challenges

30. Beyond the potential direct benefits to support science in the Antarctic and the region covered directly by the Antarctic SMART Cable, there may be broader benefits to developing the Antarctic SMART Cable. In your view, what are the global, national, and societal benefits of this cable?

Future Science Workshop

31. A successor science workshop is being considered for 2025 to build upon and extend the work of the June 2021 workshop and this Electronic On-Line Submission. How interested would you be in attending virtually or in-person, provided full or partial travel expenses could be provided?

Final Thoughts

32. If there is anything else you'd like to share or elaborate upon regarding the topics mentioned here, please provide them here.

33. Please complete the form below to indicate your interest in future participation in this project. This is completely voluntary, and your responses collected will be included in the analysis regardless of your response below.

Name

Affiliation

Title/Position

Email address

(Authority: 42 U.S.C. 1861, et al.)

Dated: August 23, 2024.
Suzanne H. Plimpton,
Reports Clearance Officer, National Science Foundation.

[FR Doc. 2024-19375 Filed 8-27-24; 8:45 am]

BILLING CODE 7555-01-P